DEPARTMENT OF COMMERCE

International Trade Administration

University of South Florida, et al.; Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before December 12, 2022. Address written comments to Statutory Import Programs Staff, Room 3720, U.S. Department of Commerce, Washington, DC 20230. Please also email a copy of those comments to Dianne.Hanshaw@trade.gov.

Docket Number: 23-001. Applicant: University of Florida, Department of Medical Engineering, 4202 E Fowler Avenue, ENG 030, Tampa, FL 33620. Instrument: Bowl-shaped 1024 ultrasound transducer array. Manufacturer: Hebei ULSO Tech Company, Ltd., China. Intended Use: The instrument will be used to build up a real-time three-dimensional (3D) Photoacoustic Tomography (PAT) imaging system for a National Institutes of Health (NIH) granted research project. The goal of this research is to develop a novel photoacoustic imaging approach that will allow non-invasive, simultaneous three-dimensional visualization of all the embryos in mouse utero and track their birth/adulthood longitudinally to study the association between maternal alcohol exposure induced fetal hemodynamic changes and the outcome of fetal alcohol spectrum disorder (FASD) after birth. Justification for Duty-Free Entry: According to the applicant, there are no instruments of the same general category manufactured in the United States. Application accepted by Commissioner of Customs: March 31, 2022.

Docket Number: 23-002. Applicant: University of South Florida, Department of Medical Engineering, 4202 E Fowler Avenue, ENG 030, Tampa, FL 33620. Instrument: Annular ring 256 ultrasound transducer array. Manufacturer: Hebei ULSO Tech Company, Ltd., China. Intended Use: This instrument will be used to build up a real-time two-dimensional (2D) Photoacoustic Tomography (PAT) imaging system and a Thermoacoustic Tomography (TAT) imaging system, in which a high-quality transducer probe is the key part. The ultrasound signal generated from the tissue by absorption of pulsed laser in PAT or of microwave source in TAT will be collected by transducer elements from different angles. Using specific imaging reconstruction algorithm, the 2D images of the tissue could be reconstructed. The new PAT and TAT imaging system based on this new transducer probe will be used to study the neural activity and hemodynamic response in the brain of patients with epilepsy. Justification for Duty-Free Entry: According to the applicant, there are no instruments of the same general category manufactured in the United States. Application accepted by Commissioner of Customs: March 31, 2022.

Docket Number: 23-003. Applicant: University of South Florida, Department of Medical Engineering, 4202 E. Fowler Avenue, ENG 030, Tampa, FL 33620.

Instrument: L-band Microwave source. Manufacturer: Hebei ULSO Tech Co., Ltd., China. Intended Use: This instrument will be used to build up a real-time two-dimensional (2D) thermoacoustic tomography imaging (TAT) system. It will work with the annular ring-shaped transducer probe (another order). This novel TAT imaging system will be applied in the research of gene therapy, cancer-diagnosis and so on. This new L-band microwave has different center frequency and much stronger output power, will provide the capability to penetrate deeper in the tissue with better image quality. Justification for Duty-Free Entry: According to the applicant, there are no instruments of the same general category manufactured in the United States. Application accepted by Commissioner of Customs: March 31, 2022.

Dated: November 16, 2022.
Richard Herring,
Director, Subsidies Enforcement, Enforcement and Compliance.

[FR Doc. 2022-25371 Filed 11-21-22; 8:45 am]

BILLING CODE 3510-DS-P